FEDERAL COMMUNICATIONS COMMISSION

[CCB/CPD 98-2; DA 03-4054]

Definition of Payphone Customer; Tariff Notice Requirements for Non-Dominant Carriers; NYNEX Waiver of Access Charges; Application of Presubscribed Interexchange Carrier Charge to Discontinued Customers

AGENCY: Federal Communications Commission.

ACTION: Notice; termination of proceedings.

SUMMARY: This document is a notification of final termination of four proceedings, involving the definition of a payphone customer, tariff notice requirements for non-dominant carriers, NYNEX's application for a waiver of access charges, and the application of presubscribed interexchange carrier charges to discontinued customers. No oppositions to the prior notices of termination were received; therefore, interested parties are hereby notified that these proceedings have been terminated.

DATES: These proceedings were terminated effective December 5, 2003.

FOR FURTHER INFORMATION CONTACT: Jennifer McKee, Wireline Competition Bureau, Pricing Policy Division, (202) 418-1530.

SUPPLEMENTARY INFORMATION: On October 24, 2003, the Wireline Competition Bureau's Pricing Policy Division issued Public Notices in four proceedings stating that the proceedings would be terminated effective 30 days after publication of the Public Notices in the Federal Register, unless the Bureau received oppositions to the terminations before that date. These proceedings were Atlantic Telco, Inc. and Tel & Tel Payphones, Inc. Request for Declaratory Ruling (regarding the definition of a payphone customer); Teleport Communications Group Operating Companies Tariff F.C.C. No. 1 Transmittal No. 1, et al. (regarding tariff notice requirements for non-dominant carriers); NYNEX Telephone Companies Petition for Waiver; Transition Plan to Preserve Universal Service in a Competitive Environment (regarding NYNEX's application for a waiver of access charges); and Sprint Corporation Request for Declaratory Ruling Regarding Application of PICCs (regarding the application of presubscribed interexchange carrier charges to discontinued customers). The notices were published in the Federal Register on November 5, 2003. See 68 FR 62593, November 5, 2003; 68 FR 62593, November 5, 2003; 68 FR 62592, November 5, 2003; 68 FR 62594, November 5, 2003. The Bureau did not receive any oppositions to the terminations of these proceedings within 30 days of Federal Register publication of the notices; therefore, the above-listed proceedings were terminated as of December 5, 2003.

Authority: 47 U.S.C. 152, 153, 154, 155, 303, 307, 308, 309, 315, 317; 44 FR 18501, 67 FR 13223, 47 CFR 0.291, 1.749.

Federal Communications Commission.
William F. Maher, Jr.,
Chief, Wireline Competition Bureau.

[FR Doc. 04-480 Filed 1-9-04; 8:45 am]

BILLING CODE 6712-01-P